DEPARTMENT OF AGRICULTURE

Forest Service

Oregon Coast Provincial Advisory Committee

AGENCY: Forest Service, USDA.

ACTION: Notice of meeting.

SUMMARY: The Oregon Coast Province Advisory Committee will meet in Grand Ronde, OR, October 24, 2002. The theme of the meeting is Community Recovery Sustainability/Business Planning. The agenda includes: A panel discussion involving special use permitees/off highway vehicle users/outfitters/guides/Forest Service/Bureau of Land Management; Community sustainability; Socio analysis of the southern Willamette Valley; Public input; and Round Robin sharing.

DATES: The meeting will be held October 24, 2002, beginning at 9 a.m.

ADDRESSES: The meeting will be held at the Spirit Mountain Casino, ¼ mile west of Valley Junction, Oregon, on Highway 18.

FOR FURTHER INFORMATION CONTACT: Joni Quarnstrom, Public Affairs Specialist, Siuslaw National Forest, 541-750-7075, or write to Siuslaw National Forest Supervisor, P.O. Box 1148, Corvallis, OR 97339.

SUPPLEMENTARY INFORMATION: The meeting is open to the public. Council discussion is limited to Forest Service/BLM staff and Council Members. Lunch will be on your own. A public input session will be at 2:45 p.m. for fifteen minutes. The meeting is expected to adjourn around 4 p.m.

Dated: September 26, 2002.
Gloria D. Brown,
Forest Supervisor.

[FR Doc. 02-25108 Filed 10-2-02; 8:45 am]

BILLING CODE 3410-11-M